DEPARTMENT OF DEFENSE

Department of the Army

[Docket ID: USA-2015-0004]

Proposed Collection; Comment Request

AGENCY: Army & Air Force Exchange Service (Exchange), DoD.

ACTION: Notice.

SUMMARY: In compliance with the Paperwork Reduction Act of 1995, the Army & Air Force Exchange Service announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 9, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Army and Air Force Exchange Service, Office of the General Counsel, Compliance Division, Attn: Teresa Schreurs, 3911 South Walton Walker Blvd., Dallas, TX 75236-1598 or call the Exchange Compliance Division at 800-967-6067.

SUPPLEMENTARY INFORMATION:

Title; Associated Form; and OMB Number: Exchange Official Personnel Folder; Exchange Form 1100-016 “Identification & Privilege Card Application”; Exchange Form 1200-038 “Employment reference Request”; Exchange Form 1200-718 Local National Employment Application—Germany Only”; Exchange Form 3250-005 “Request for Official Personnel Folder”; and OMB Control Number: 0702-XXXX.

Needs and Uses: The information collection requirement is necessary to provide a repository of the records, reports of personnel actions, and the documents and papers required in connection with these actions effected during an employee's service with the Army and Air Force Exchange Service (Exchange). Records provide the basic source of factual data about a person's employment with the agency and have various uses by the Exchange personnel office, including screening qualifications of employees, determining status, eligibility, and employee's rights and benefits, computing length of service and other information needed to provide personnel services.

Affected Public: Individuals or households.

Annual Burden Hours: 208,000 hours.

Number of Respondents: 260,000.

Responses per Respondent: 3.2.

Average Burden per Response: 15 Minutes.

Frequency: On Occasion.

Respondents are Exchange personnel who are active, terminated, or retired. Information on dependents including ex-spouses is obtained from the Exchange personnel. These individuals submit information to the Exchange primarily through electronic means.

Dated: January 2, 2015.
Aaron Siegel,
Alternate OSD Federal Register Liaison Officer, Department of Defense.

[FR Doc. 2015-00030 Filed 1-6-15; 8:45 am]

BILLING CODE 5001-06-P